DEPARTMENT OF HEALTH AND HUMAN SERVICES

Centers for Disease Control and Prevention

[Program Announcement 02179]

National Environmental Public Health Tracking Program; Notice of Availability of Funds

Addendum

A notice announcing the availability of Fiscal Year (FY) 2002 funds for a cooperative agreement program to support development of a National Environmental Public Health Tracking Program was published on July 18, 2002, Volume 67, Number 138, pages 47371-47381. The following appendix is added to this announcement: Appendix V.

The Agency for Toxic Substances and Disease Registry (ATSDR) has also recently released a request for proposals “Linking Chronic Disease and Environmental Data Sources”. This is separate from CDC Environmental Public Health Tracking Program announcements PA02179, and PA02180 (Centers for Excellence in Environmental Public Health Tracking). ATSDR will fund two to three projects. The purpose of these projects are to conduct research on the potential impact of environmental exposures on chronic disease outcomes. If interested in learning more about this other funding opportunity, applicants should refer to ATSDR's announcement which is posted on CDC's Web site at: http://www.cdc.gov/od/pgo/funding/02155.htm. CDC and ATSDR have been collaborating on their respective announcements and will continue to coordinate these activities at the Federal level.

In future years, CDC's announcement (PA02179) and ATSDR's announcement (PA02155) will be combined and all activities will be included in one announcement. Therefore, applicants should be aware of the criteria in both announcements. For example, criteria on developing systems that are compatible with NEDSS, Bioterrorism, and EPA's National Environmental Information Exchange Network will be critical for all aspects of tracking.

For more information, CDC has introduced a new environmental public health tracking Web site. It can be accessed at: www.cdc.gov/nceh/tracking.

Dated: July 23, 2002.
Edward Schultz,
Acting Director, Procurement and Grants Office, Centers for Disease Control and Prevention.

[FR Doc. 02-19060 Filed 7-26-02; 8:45 am]

BILLING CODE 4163-18-P